DEPARTMENT OF DEFENSE

Department of the Army

Notice of Availability of the Final Environmental Impact Statement (FEIS) for the Northern Training Complex with a Multi-Purpose Digital Training Range and Expanded Maneuver Areas, Drop Zones and Landing Zones at Fort Knox, Kentucky

AGENCY: U.S. Army Armor Center and Fort Knox, Department of the Army, DoD.

ACTION: Notice of availability.

SUMMARY: In compliance with the National Environmental Policy Act (NEPA), the Army has prepared a FEIS for the construction and operation of a multi-purpose digital training range and a series of maneuver areas, drop zones and landing zones at Fort Knox. The FEIS analyzes the impacts of the proposed facilities. These facilities would provide a multi-functional war-fighting capability to meet the Army's training needs for soldiers in urban and restricted terrain combat scenarios and the new digital technology to support the M1A2 System Enhancement Package (SEP) Main Battle Tank. The FEIS identifies various alternatives and the associated environmental impacts of the proposed alternatives.

DATES: The post-filing waiting period for this EIS will end 30 days after publication of the notice of availability in the Federal Register by the U.S. Environmental Protection Agency.

ADDRESSES: Requests for copies of the FEIS may be made to Environmental Management Division, Directorate of Base Operations Support, U.S. Army Armor Center, ATTN: ATZK-OSE, Building 1110, Room 216, Ironsides & 6th Avenue, Fort Knox, KY 40121-5000; by phone at (502) 624-3629, or by fax at (502) 624-3000. Questions about the FEIS and written comments may be sent to the same mailing address. Submit electronic comments and data by sending email to: Linda.Pollock@knox.army.mil.

FOR FURTHER INFORMATION CONTACT: Mr. Al Freeland or Mrs. Gail Pollock at (502) 624-3629.

SUPPLEMENTARY INFORMATION: The proposed project includes upgrading an existing training range to a modern digitized multi-purpose training range; construction of a series of landing zones, drop zones and maneuver areas and a grassed mock C130 landing strip; upgrade of existing roads; installation of fiber optics and other infrastructure improvements. The facilities would prepare the mounted force warriors for full spectrum combat operations. The proposed facilities would fully support new equipment training such as the M1A2 Main Battle Tank (MBT) System Enhancement Package (SEP), the M2A3 Bradley Fighting Vehicle, and the Light Armored Vehicle (LAV III), as well as other enhanced vehicles requiring digital capability. These vehicles are equipped with a dynamic new computer system that uses digital technology to provide soldiers with on the move and instantaneous battlefield communications.

Individuals who wish to review the FEIS may examine a copy at any of the following locations: Barr Library; 400 Quartermaster Street, Fort Knox, Kentucky 40121-5000 and Ridgeway Memorial Library, 127 North Walnut Street, P.O. Box 146, Sheperdsville, Kentucky 40165.

Adoption: The U.S. Army Corps of Engineers hereby adopts (pursuant to 40 CFR 1506.3(a)) this FEIS for the U.S. Army Armor Center and Fort Knox Northern Training Complex, Fort Knox, Kentucky. This FEIS shall be used as the Corps' NEPA documentation for purposes of the Corps' Section 404 Clean Water Act permit review.

Dated: May 7, 2002.
Raymond J. Fatz,
Deputy Assistant Secretary of the Army, (Environment, Safety and Occupational Health) OASA (I&E).

[FR Doc. 02-12086 Filed 5-14-02; 8:45 am]

BILLING CODE 3710-08-M